DEPARTMENT OF AGRICULTURE

Economic Research Service

Notice of Intent To Seek Approval To Collect Information

AGENCY: Economic Research Service, USDA.

ACTION: Notice and request for comments.

SUMMARY: In accordance with the Paperwork Reduction Act of 1995 (Pub. L. 104-13) and Office of Management and Budget (OMB) regulations at 5 CFR part 1320 (60 FR 44978, August 29, 1995), this Notice invites the general public and other interested parties to comment on a proposed information collection by the Economic Research Service. This information collection will provide data needed to conduct research to develop questionnaires and related instruments capable of collecting reliable and valid information on topics including: food-related knowledge, attitudes, and behavior; food assistance program participation; and customer satisfaction. To do so, ERS plans to conduct data collections that involve formative research, including such methods as cognitive interviews (individual and/or small group), and pre-testing of survey items (mailed, in-person, telephone, or Web-based pretests).

DATES: Written comments on this Notice must be received by August 12, 2005 to be assured of consideration.

ADDITIONAL INFORMATION OR COMMENTS: Requests for additional information regarding this Notice should be directed to Eileen Stommes, Food Assistance Branch, Food and Rural Economics Division, Economic Research Service, U.S. Department of Agriculture, 1800 M Street, NW., Room N-2148, Washington, DC 20036-5831. Submit electronic comments to estommes@ers.usda.gov or fax to 202-694-5677.

SUPPLEMENTARY INFORMATION: Title: Formative Research for Development of Food Behavior Questionnaires and Related Measures.

Type of Request: Approval to collect information from civilian, non-institutionalized population, especially low-income individuals and households targeted by USDA food assistance programs.

OMB Number: Not yet assigned.

Expiration Date: Three years from date of issuance.

Abstract: Nutrition has been shown to have important effects on obesity, child development, learning, lifelong health, and productivity. Poor food behaviors have been linked to four leading causes of death, reduced quality of life, increased cost of living, and premature death. While these food-related problems affect many Americans, there is a lack of reliable, valid questionnaires or other short, practical population measures to assess such important information as: nutrition- and food-related knowledge, attitudes, and behaviors; food assistance program participation and its determinants; and program satisfaction.

Development of new questionnaires and related measures and assessment of their reliability and validity will require formative research. Formative research methods such as cognitive interviewing and pretesting will assist ERS to develop questionnaires and related measures that are understandable and yield reliable, valid information on food behavior and its social and economic determinants.

Findings from all subsequent data collections will be included in summary reports submitted to OMB. The reports will describe the data collection methods used in the formative research, findings, conclusions, implications, and recommendations for the development of reliable, valid questionnaires and related measures. There will be no attempt to generalize the findings to be nationally representative.

Methods of Collection: The data will be collected using a combination of methodologies appropriate to each formative research activity. These methodologies could include: Cognitive interviews, Pretest/Field test, and Focus groups.

Estimated Number of Respondents and Total Annual Burden on Respondents:

Type of data collection | Number of respondents | Average burden response (minutes) | Total hours of burden
Cognitive Interviews | 600 | 120 | 1,200
Pretesting/Field Test | 2,000 | 30 | 1,000
Focus Groups | 600 | 120 | 1,200
Totals | 3,200 | N/A | 3,400

Comments: Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All comments on this Notice will become a matter of public record and be summarized in the request for OMB approval.

Dated: May 24, 2005.
Susan Offutt,
Administrator, Economic Research Service.

[FR Doc. 05-11374 Filed 6-7-05; 8:45 am]

BILLING CODE 3410-18-P